DEPARTMENT OF DEFENSE

Department of the Air Force

[Docket ID: USAF-2014-0007]

Proposed Collection; Comment Request

AGENCY: Department of the Air Force, DoD.

ACTION: Notice.

SUMMARY: In compliance with Section 3506(c)(2)(A) of the Paperwork Reduction Act of 1995, the Commander, United States Transportation Command announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 9, 2014

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Commander, United States Transportation Command. ATTN: Mr. Thomas E Thompson, (J4-PI), USTRANSCOM-J4, 508 Scott Dr., AFB IL, 62225-1437, (618) 220-4804.

SUPPLEMENTARY INFORMATION: Title; Associated Form; and OMB Number: Tender of Service for Personal Property Household Goods and Unaccompanied Baggage Shipments, DD Form 619; OMB Control Number 0701-XXXX.

Needs and Uses: The information collection requirement is necessary to private sector commercial Transportation Service Providers, who are under contract with the DOD for shipment/storage of personal property, to identify ownership, schedule pickup and delivery of personal property, to include privately owned vehicles, motorcycles, and house trailers/motor homes, Bill of Lading for services rendered, personal property counseling checklist.

To U.S. Customs and Border Protection Declaration for personal property shipments, re-weigh of personal property, shipment evaluation and inspection reports, receipt for unaccompanied baggage, mobile home inspection record, temporary commercial storage at Government expense, accessorial services-mobile home, report of contractor services, and claims for loss and damage.

To manifest individuals and personal property being transported in the DTS.

To provide emergency contact information to the designated authorized carrier under DoD contract and DoD authorizing activity, emergency contact information in the event of an emergency.

To disclose information to other Federal agencies in order to manage an optimize DoD transportation resources, and to provide customs, immigration, and transportation security screening.

To the designated authorized carrier under DoD contract and DoD authorizing activity, emergency contact information in the event of an emergency.

To the Department of State to locate individuals in the DTS.

To General Service Administration and Defense Government Accounting Activities for processing government Bills of Lading, and post-payment audits as required.

Affected Public: Business of Other For-Profit.

Annual Burden Hours: 18,980 hours.

Number of Respondents: 876.

Responses Per Respondent: 260.

Total Annual Responses: 227,760.

Average Burden Per Response: 5 minutes.

Frequency: On occasion.

The Tender of Service is the contractual agreement between the DOD and the Transportation Service Provider (TSP), under which the TSP agrees to provide services in accordance with the conditions cited in the Tender of Service. In accordance with the provisions of DOD 4500.9-R, the DD Form 619 is used by the household goods TSP industry to itemize accessorial services and other charges for billing purposes on household goods and unaccompanied baggage shipments.

Dated: April 4, 2014.
Aaron Siegel,
Alternate OSD Federal Register Liaison Officer, Department of Defense.

[FR Doc. 2014-07946 Filed 4-8-14; 8:45 am]

BILLING CODE 5001-06-P